ENVIRONMENTAL PROTECTION AGENCY

[ER-FRL8592-6]

Environmental Impacts Statements; Notice of Availability

Responsible Agency: Office of Federal Activities, General Information (202) 564-1399 or http://www.epa.gov/compliance/nepa/.

Weekly receipt of Environmental Impact Statements.

Filed 04/13/2009 through 04/17/2009.

Pursuant to 40 CFR 1506.9.

EIS No. 20090117, Draft EIS, COE, FL, C-111 Spreader Canal Western Project, To Restore Ecosystem Function in Taylor Slough and Florida Bay Areas, Central and Southern Florida Project, Comprehensive Everglades Restoration Plan (CERP), Everglades National Park, Miami-Dade County, FL, Comment Period Ends: 06/08/2009, Contact: Brad Tarr 904-232-3582.

EIS No. 20090118, Final EIS, AFS, AK, Navy Timber Sale Project, To Address the Potential Effects of Timber Harvesting on Etolin Island, Wrangell Ranger District, Tongass National Forest, AK, Wait Period Ends: 05/26/2009, Contact: Mark Hummel 907-874-7595.

EIS No. 20090119, Final EIS, NPS, NY, Governors Island National Monument, General Management Plan, Implementation, New York Harbor, NY, Wait Period Ends: 05/26/2009, Contact: Christine Gabriel 215-597-1572.

EIS No. 20090120, Draft Supplement, COE, WA, Commencement Bay “Reauthorization” of Dredged Material Management Program Disposal Site, Implementation, Central Puget Sound, Tacoma, WA, Comment Period Ends: 06/08/2009, Contact: Dr. Stephen Martin 206-764-3631.

EIS No. 20090121, Final EIS, USN, NC, Navy Cherry Point Range Complex, Proposed Action is to Support and Conduct Current and Emerging Training and Research, Development, Testing and Evaluation (RDT&E) Activities, South Atlantic Bight, Cape Hatteras, NC, Wait Period Ends: 05/26/2009, Contact: Arron Slater 757-322-8498.

EIS No. 20090122, Draft EIS, FRC, 00, Phase VIII Expansion Project, Proposed to Construct, Own, Operate, and Maintain New Interstate National Gas Pipeline, Compressor, and Ancillary Facilities in Alabama and Florida, Comment Period Ends: 06/08/2009, Contact: Patricia Schaub 1-866-208-3372.

EIS No. 20090123, Draft EIS, FHW, MS, Greenville Connector Project, from Relocated US 82 to Proposed I-69 Corridor south of Benoit, City of Greenville. Washington and Bolivar Counties, MS, Comment Period Ends: 06/08/2009, Contact: Andrew Hughes, P.E. 601-965-4217.

EIS No. 20090124, Draft EIS, NOA, 00, Amendment 16 to the Northwest Multispecies Fishery Management Plan, Propose to Adopt, Approval and Implementation Measures to Continue Formal Rebuilding Program for Overfishing and to End Overfishing on those Stock where it Occurring, Gulf of Maine, Comment Period Ends: 06/08/2009, Contact: Paul Howard 978-465-0492.

EIS No. 20090125, Draft EIS, SFW, AZ, Town of Marana Habitat Conservation Plan, Issuance of an Incidental Take Permit (ITP) to Authorize the Incidental Take of Species Protected by the Endangered Species Act (ESA), Pima County, AZ, Comment Period Ends: 06/08/2009, Contact: Scott Richardson 520-670-6150 Ext. 242.

Amended Notices

EIS No. 20090056, Third Draft Supplement, TPT, CA, Presidio Trust Management Plan (PTMP), Updated Information on the Preferred Alternative for the Main Post District of the Presidio of San Francisco, Implementation, City and County of San Francisco, CA, Comment Period Ends: 06/01/2009, Contact: John Pelka 415-561-4183.

Dated: April 21, 2009.
Robert W. Hargrove,
Director, NEPA Compliance Division, Office of Federal Activities.

[FR Doc. E9-9442 Filed 4-23-09; 8:45 am]

BILLING CODE 6560-50-P